DEPARTMENT OF THE TREASURY

[TREAS-DO-2022-0013]

Agency Information Collection Activities; Submission for OMB Review; Comment Request; Emergency Capital Investment Program Initial Supplemental Report and Quarterly Supplemental Report; Correction

AGENCY: Departmental Offices, U.S. Department of the Treasury.

ACTION: Notice; correction; extension of comment period.

SUMMARY: The Department of the Treasury published a document in the Federal Register on March 27, 2023, concerning request for comments on reporting by Emergency Capital Investment Program participants. The document contained incorrect instructions for submitting comments. This notice also extends the comment period.

DATES: Comments should be received on or before May 8, 2023 to be assured of consideration.

FOR FURTHER INFORMATION CONTACT: Spencer W. Clark, email: PRA@treasury.gov, phone: (202) 927-5331.

SUPPLEMENTARY INFORMATION:

Correction

In the Federal Register of March 27, 2023, in FR Doc 2023-06214, on page 18223, in the second column, correct the Addresses caption to read:

ADDRESSES: Written comments and recommendations for the proposed information collection should be sent by the date listed above through the Federal eRulemaking Portal: https://www.regulations.gov/search?filter=treas-do-2022-0013. This is a direct link to the docket for this notice on regulations.gov. If you are unable to comment via regulations.gov, you may email your comment to pra@treasury.gov.

Authority: 44 U.S.C. 3501 et seq.

Spencer W. Clark,
Treasury PRA Clearance Officer.

[FR Doc. 2023-08061 Filed 4-14-23; 8:45 am]

BILLING CODE 4810-AK-P